CONSUMER PRODUCT SAFETY COMMISSION

[Docket No. CPSC-2009-0102]

Collection of Information; Submission for OMB Review; Comment Request—Follow-Up Activities for Product-Related Injuries Including NEISS

AGENCY: Consumer Product Safety Commission.

ACTION: Notice.

SUMMARY: As required by the Paperwork Reduction Act of 1995, the Consumer Product Safety Commission (CPSC) announces that the CPSC has submitted to the Office of Management and Budget (OMB), a request for extension of approval of a collection of information previously approved under OMB Control No. 3041-0029, on consumer product-related injury data, and follow-up activities for product-related injuries. On October 8, 2019, CPSC published a notice in the Federal Register announcing the agency's intent to seek this extension. CPSC made available a copy of the supporting statement, “PRI ICR 2019 60-day,” under Supporting and Related Materials in Docket No. CPSC-2009-0102. CPSC received no comments in response to that notice. By publication of this notice, the Commission announces that CPSC has submitted to the OMB a request for extension of approval of that collection of information, without change.

DATES: Written comments on this request for extension of approval of information collection requirements should be submitted by January 21, 2020.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2009-0102.

FOR FURTHER INFORMATION CONTACT: For further information or a copy of the supporting statement contact: Bretford Griffin, Consumer Product Safety Commission, 4330 East-West Highway, Bethesda, MD 20814; (301) 504-7037, or by email to: bgriffin@cpsc.gov.

SUPPLEMENTARY INFORMATION:

A. Background

Section 5(a) of the Consumer Product Safety Act, 15 U.S.C. 2054(a), requires the CPSC to collect information related to the causes and prevention of death, injury, and illness associated with consumer products. That section also requires the CPSC to conduct continuing studies and investigations of deaths, injuries, diseases, other health impairments, and economic losses resulting from accidents involving consumer products.

The CPSC obtains information about product-related deaths, injuries, and illnesses from a variety of sources, including newspapers, death certificates, consumer complaints, and medical facilities. In addition, the CPSC receives information via its internet website through forms reporting on product-related injuries or incidents. The CPSC also operates the National Electronic Injury Surveillance System (NEISS), which provides timely data on consumer product-related injuries treated in hospital emergency departments in the United States. The CPSC also uses the NEISS system to collect information on childhood poisonings, in accordance with the Poison Prevention Packaging Act of 1970.

From these sources, CPSC staff selects cases of interest for further investigation, by contacting persons who witnessed or were injured in incidents involving consumer products. These investigations are conducted on-site (face-to-face), by telephone, or by the internet. On-site investigations are usually made in cases where CPSC staff needs photographs of the incident site, the product involved, or detailed information about the incident. This information also can come from contact with state and local officials, including police, coroners, and fire investigators, and others with knowledge of the incident.

Through interagency agreements, the CPSC also uses the NEISS system to collect information on injuries for the Centers for Disease Control and Prevention (CDC) under the NEISS All-Injury Program (NEISS-AIP). The NEISS-AIP is a sub-sample of approximately two-thirds of the full NEISS sample. In addition to the standard data variables collected on all NEISS injuries, the NEISS-AIP collects additional variables on several studies for CDC (Adverse Drug Events, Assaults, Self-Inflicted Violence, and Work-Related Injuries) and one study on non-crash motor vehicle-related injuries for the National Highway and Transportation Safety Administration (NHTSA). Additional special study variables are collected for CDC in the full NEISS sample for firearm-related injuries.

The current NEISS probability sample was drawn and recruited in 1995-1996 and implemented in 1997. Since then, several of the selected hospitals have stopped participating for reasons such as closures and mergers with other hospitals, and were replaced with other purposively-selected hospitals. While hospital weights are adjusted to account for changes in the population of hospitals over time, the current sample of hospitals participating in NEISS is being reviewed to assess their representativeness. The selection process may be revised in future years in order to strengthen the quality and representativeness of the estimates generated by the NEISS-AIP. CPSC has entered into a contract with Westat to perform an independent statistical assessment of the NEISS and NEISS-AIP samples under CPSC contract 61320619F0134 with a period of performance of September 27, 2019, through September 26, 2020.

B. NEISS Estimated Burden

The NEISS system collects information on consumer product-related incidents and other injuries from a statistical sample of 96 hospitals in the United States. Respondents to NEISS include hospitals that directly report information to NEISS, and hospitals that allow access to a CPSC contractor, who collects the data. Collecting emergency department records for review, correcting error messages, among other tasks, takes about 36 minutes per day. Each record takes about 30 seconds to review. Coding and reporting records that involve consumer products or other injuries takes about 2 minutes per record. Coding and reporting additional special study information (Adverse Drug Effects) takes about 2 minutes and 90 seconds per record for other special studies. Respondents also spend about 36 hours per year in related activities (training, evaluations, and communicating with other hospital staff).

In 2018, there were 130 NEISS respondents (total hospitals and CPSC contractors). These NEISS respondents reviewed an estimated 5.53 million emergency department records and reported 727,544 total cases (363,221 consumer product-related injuries for CPSC, and 364,323 other injuries for the NEISS-AIP). The table below lists the number of reported cases, and the number of reported cases with additional special study information.

Total NEISS Cases Reported | 727,544
Consumer Product-Related Injuries | 363,221
CDC NEISS-AIP | 364,323
Special Studies Reported (subset of above)
Child Poisoning (CPSC) | 4,734
Adverse Drug Events (CDC) | 36,858
Assaults (CDC) | 32,990
Firearm-Related Injuries (CDC) | 6,159
Self-Inflicted Violence (CDC) | 9,106
Work-Related Injuries (CDC) | 38,132
Motor Vehicle Non-Crash Injuries (NHTSA) | 12,813

The total burden hours for all NEISS respondents are estimated to be 100,781 for 2018. The average burden hour per respondent is 775 hours. However, the total burden hour on each respondent varies due to differences in size of the hospital (e.g., small rural hospitals versus large metropolitan hospitals). The smallest hospital reported 82 cases with a burden of about 258 hours, while the largest hospital reported 47,801 cases with a burden of about 4,125 hours.

The total cost to NEISS respondents for 2018 was approximately $3,391,000. NEISS respondents enter into contracts with CPSC and are compensated for these costs. The average cost per respondent is estimated to be about $26,000. The average cost per burden hour is estimated to be $33.65 per hour (including wages and overhead). However, the actual cost to each respondent varies, due to the type of respondent (hospital versus CPSC contractor), size of hospital, and regional differences in wages and overhead. Therefore, the actual annual cost for any given respondent may vary between $3,048 at a small rural hospital, and $329,690 at the largest metropolitan hospital.

C. Other Burden Hours

In cases that require more information regarding product-related incidents or injuries, CPSC staff conducts face-to-face interviews with approximately 375 persons each year. On average, an on-site interview takes about 4.5 hours. CPSC staff also conducts about 175 in-depth investigations (IDIs) by telephone annually. Each telephone IDI requires about 20 minutes. CPSC staff is planning to conduct about 50 internet-based questionnaires per year, which require about 20 minutes each. The CPSC estimates 1,763 annual burden hours on these respondents: 1,688 hours for face-to-face interviews; 58 hours for in-depth telephone interviews, and 17 hours for internet-based questionnaires. CPSC staff estimates the value of the time required for reporting at $36.77 an hour (U.S. Bureau of Labor Statistics, “Employer Costs for Employee Compensation,” March 2019: https://www.bls.gov>new.release>ecec.toc.htm). At this valuation, the estimated annual cost to the public is about $64,826.

The total burden hours for the information collection is 102,544 (100,781 NEISS and 1,763 other), which is an increase of 21,334 hours. The increase in burden is due primarily to the increase in the number of emergency department charts being reviewed and coded since this collection of information was last approved by OMB in 2017.

This information collection request excludes the burden associated with other publicly available Consumer Product Safety Information Databases, such as internet complaints, Hotline, and Medical Examiners and Coroners Alert Project (MECAP) reports, which are approved under OMB control number 3041-0146. This information collection request also excludes the burden associated with follow-up investigations conducted by other federal agencies.

Abioye Mosheim,
Acting Secretary, Consumer Product Safety Commission.

[FR Doc. 2019-27509 Filed 12-19-19; 8:45 am]

BILLING CODE 6355-01-P